BUREAU OF CONSUMER FINANCIAL PROTECTION

Community Bank Advisory Council Meeting

AGENCY: Bureau of Consumer Financial Protection.

ACTION: Notice of public meeting.

SUMMARY: Under the Federal Advisory Committee Act (FACA), this notice sets forth the announcement of a public meeting of the Community Bank Advisory Council (CBAC or Council) of the Consumer Financial Protection Bureau (Bureau or CFPB). The notice also describes the functions of the Council.

DATES: The meeting date is Thursday, March 22, 2018, 9:00 a.m. to 12:00 p.m.; 1:15 p.m. to 3:30 p.m. eastern daylight time. The CBAC Card, Payment, and Deposits Markets Subcommittee, CBAC Consumer Lending Subcommittee, and CBAC Mortgages and Small Business Lending Markets Subcommittee will take place on Thursday, March 22, 2018, 1:15 p.m. to 2:15 p.m. eastern daylight time.

ADDRESSES: The meeting location is the Consumer Financial Protection Bureau, 1700 G Street NW, Washington, DC 20552.

FOR FURTHER INFORMATION CONTACT: Crystal Dully, Outreach and Engagement Associate, 202-435-9588, CFPB_CABandCouncilsEvents@cfpb.gov, Consumer Advisory Board and Councils Office, External Affairs, 1700 G Street NW, Washington, DC 20552. If you require this document in an alternative electronic format, please contact CFPB_Accessibility@cfpb.gov.

SUPPLEMENTARY INFORMATION:

I. Background

Section 2 of the CBAC Charter provides: Pursuant to the executive and administrative powers conferred on the Bureau by section 1012 of the Dodd-Frank Wall Street Reform and Consumer Protection Act (Dodd-Frank Act), the Director established the Community Bank Advisory Council under agency authority.

Section 3 of the CBAC Charter states: “The purpose of the Advisory Council is to advise the Bureau in the exercise of its functions under the federal consumer financial laws as they pertain to community banks with total assets of $10 billion or less”

II. Agenda

The Community Bank Advisory Council will discuss a call for evidence, regulatory updates, and the Home Mortgage Disclosure Act (HMDA).

Persons who need a reasonable accommodation to participate should contact CFPB_504Request@cfpb.gov, 202-435-9EEO, 1-855-233-0362, or 202-435-9742 (TTY) at least ten business days prior to the meeting or event to request assistance. The request must identify the date, time, location, and title of the meeting or event, the nature of the assistance requested, and contact information for the requester. CFPB will strive to provide, but cannot guarantee that accommodation will be provided for late requests.

Written comments will be accepted from interested members of the public and should be sent to CFPB_CABandCouncilsEvents@cfpb.gov, a minimum of seven (7) days in advance of the meeting. The comments will be provided to the CBAC members for consideration. Individuals who wish to attend the Community Bank Advisory Council meeting must RSVP to cfpb_cabandcouncilsevents@cfpb.gov by noon, Wednesday, March 21, 2018. Members of the public must RSVP by the due date and must include “CBAC” in the subject line of the RSVP.

III. Availability

The Council's agenda will be made available to the public on Wednesday March 7, 2018, via consumerfinance.gov. Individuals should express in their RSVP if they require a paper copy of the agenda.

A recording and summary of this meeting will be available after the meeting on the CFPB's website consumerfinance.gov.

Dated: February 28, 2018.
Kirsten Sutton,
Chief of Staff, Bureau of Consumer Financial Protection.

[FR Doc. 2018-04438 Filed 3-5-18; 8:45 am]

BILLING CODE 4810-AM-P